DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with February anniversary dates. In accordance with Commerce's regulations, we are initiating those administrative reviews.

DATES: Applicable April 11, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with February anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than February 28, 2024.⁵

⁵ In the notice of Initiation of Antidumping and Countervailing Duty Administrative Reviews, 88 FR 15642 (March 14, 2023) for AD and CVD orders with January anniversary dates, Commerce inadvertently listed January 31, 2023, as the intended final results issuance date. Commerce hereby clarifies that this date should have been identified as January 31, 2024.

| Period to be reviewed
AD Proceedings
INDIA: Certain Frozen Warmwater Shrimp, A-533-840 | 2/1/22-1/31/23
Abad Fisheries; Abad Fisheries Pvt. Ltd.
Accelerated Freeze Drying Co., Ltd.
ADF Foods Ltd.
Akshay Food Impex Private Limited
Alashore Marine Exports (P) Ltd.
Albys Agro Private Limited
Al-Hassan Overseas Private Limited
Allana Frozen Foods Pvt. Ltd.
Allanasons Ltd.
Alpha Marine
Alps Ice & Cold Storage Private Limited
Amaravathi Aqua Exports Private Ltd.
Amarsagar Seafoods Private Limited
Amulya Seafoods
Ananda Enterprises (India) Private Limited
Ananda Aqua Applications; Ananda Aqua Exports (P) Limited; Ananda Foods
Anantha Seafoods Private Limited
Anjaneya Seafoods
Apex Frozen Foods Limited
Aquatica Frozen Foods Global Pvt. Ltd.
Arya Sea Foods Private Limited
Asvini Agro Exports
Asvini Fisheries Ltd.; Asvini Fisheries Private Ltd.
Avanti Frozen Foods Private Limited
Ayshwarya Sea Food Private Limited
B R Traders
Baby Marine Eastern Exports
Baby Marine Exports
Baby Marine International
Baby Marine Sarass
Baby Marine Ventures
Balasore Marine Exports Private Limited
Basu International
BB Estates & Exports Private Limited
Bell Foods (Marine Division); Bell Exim Private Limited (Bell Foods (Marine Divison)); Bhatsons Aquatic Products
Bhavani Seafoods
Bhimraj Exports Private Limited
Bijaya Marine Products
Blue-Fin Frozen Foods Private Limited
Blue Water Foods & Exports P. Ltd.
Bluepark Seafoods Pvt. Ltd.
BMR Exports; BMR Exports Private Limited
BMR Industries Private Limited
B-One Business House Pvt. Ltd.
Britto Seafood Exports Pvt Ltd.; Britto Exports; Britto Exports Pvt Ltd.
C.P. Aquaculture (India) Pvt. Ltd.
Calcutta Seafoods Pvt. Ltd.; Bay Seafood Pvt. Ltd.; Elque & Co.
Canaan Marine Products
Capithan Exporting Co.
Cargomar Private Limited
Castlerock Fisheries Ltd.
Chakri Fisheries Private Limited
Chemmeens (Regd)
Cherukattu Industries (Marine Div); Cherukattu Industries
Choice Canning Company
Choice Trading Corporation Pvt. Ltd.
Coastal Aqua Private Limited
Coastal Corporation Ltd.
Cochin Frozen Food Exports Pvt. Ltd.
Cofoods Processors Private Limited
Continental Fisheries India Private Limited
Coreline Exports
Corlim Marine Exports Private Limited
CPF (India) Private Limited
Crystal Sea Foods Private Limited
Danica Aqua Exports Private Limited
Datla Sea Foods
Deepak Nexgen Foods and Feeds Pvt. Ltd.
Delsea Exports Pvt. Ltd.
Devi Fisheries Limited; Satya Seafoods Private Limited; Usha Seafoods; Devi Aquatech Private Limited
Devi Marine Food Exports Private Ltd.; Kader Exports Private Limited; Kader Investment and Trading Company Private Limited; Liberty Frozen Foods Private Limited; Liberty Oil Mills Limited; Premier Marine Products Private Limited; Universal Cold Storage Private Limited ⁶
Devi Sea Foods Limited ⁷
DSF Aquatech Private Limited
Dwaraka Sea Foods
Empire Industries Limited
Entel Food Products Private Limited
Esmario Export Enterprises
Everblue Sea Foods Private Limited
Falcon Marine Exports Limited; KR Enterprises
Febin Marine Foods Private Limited; Febin Marine Foods
Fedora Sea Foods Private Limited
Five Star Marine Exports Private Limited
Food Products Pvt., Ltd.; Parayil Food Products Pvt., Ltd.
Forstar Frozen Foods Pvt. Ltd.
Fouress Food Products Private Limited
Frontline Exports Pvt. Ltd.
G A Randerian Ltd.; G A Randerian (P) Limited
Gadre Marine Exports; Gadre Marine Exports Pvt. Ltd.
Galaxy Maritech Exports P. Ltd.
Geo Aquatic Products (P) Ltd.
Geo Seafoods
Godavari Mega Aqua Food Park Private Limited
Grandtrust Overseas (P) Ltd.
Green Asia Impex Private Limited
Growel Processors Private Limited
GVR Exports Pvt. Ltd.
Hari Marine Private Limited
Haripriya Marine Exports Pvt. Ltd.
High Care Marine Foods Exports Private Limited
HIC ABF Special Foods Pvt. Ltd.
Highland Agro
Hiravati Exports Pvt. Ltd.
Hiravati International Pvt. Ltd.
Hiravati Marine Products Private Limited
HMG Industries Ltd.
HN Indigos Private Limited
HT Foods Private Limited
Hyson Exports Private Limited
Hyson Logistics and Marine Exports Private Limited
IFB Agro Industries Limited
Indian Aquatic Products
Indo Aquatics
Indo Fisheries
Indo French Shellfish Company Private Limited
International Freezefish Exports
ITC Ltd.
Jagadeesh Marine Exports
Jaya Lakshmi Sea Foods Pvt. Ltd.
Jinny Marine Traders
Jude Foods India Private Limited
K.V. Marine Exports
The Kadalkanny Group; Diamond Seafoods Exports; Edhayam Frozen Foods Pvt. Ltd.; Kadalkanny Frozen Foods; Theva & Company
Kalyan Aqua & Marine Exp. India Pvt. Ltd.
Karunya Marine Exports Private Limited
Kaushalya Aqua Marine Product Exports Pvt. Ltd.
Kay Kay Exports; Kay Kay Foods
Kings Infra Ventures Limited
Kings Marine Products
KNC Agro Limited; KNC AGRO PVT. LTD.
Koluthara Exports Ltd.
Libran Foods
Lito Marine Exports Private Limited
LNSK Greenhouse Agro Products LLP
Magnum Export; Magnum Exports Pvt. Ltd.
Magnum Sea Foods Limited; Magnum Estates Limited; Magnum Estates Private; Magnum Estates Private Limited Mangala Marine Exim India Pvt. Ltd.
Mangala Sea Products
Mangala Seafoods; Mangala Sea Foods
Marine Harvest India
Megaa Moda Pvt. Ltd.
Milesh Marine Exports Private Limited
Milsha Agro Exports Pvt. Ltd.
Milsha Sea Products
Minaxi Fisheries Private Limited
Mindhola Foods LLP
Minh Phu Group
MMC Exports Limited
Monsun Foods Pvt. Ltd.
Mourya Aquex Pvt. Ltd.
MTR Foods
Munnangi Seafoods (Pvt) Ltd.
Naga Hanuman Fish Packers
Naik Frozen Foods Private Limited; Naik Frozen Foods
Naik Oceanic Exports Pvt. Ltd.; Rafiq Naik Exports Pvt. Ltd.
Naik Seafoods Ltd.
Naq Foods India Private Limited
NAS Fisheries Pvt. Ltd.
Neeli Aqua Private Limited
Nekkanti Mega Food Park Private Limited
Nekkanti Sea Foods Limited
Nezami Rekha Sea Foods Private Limited; Nezami Rekha Sea Food Private Limited
Nila Sea Foods Exports; Nila Sea Foods Pvt. Ltd.
Nine Up Frozen Foods
N.K. Marine Exports LLP
Nutrient Marine Foods Limited
Oceanic Edibles International Limited
Orchid Marine Exports Private Limited
Paragon Sea Foods Pvt. Ltd.
Paramount Seafoods
Pasupati Aquatics Private Limited
Penver Products (P) Ltd.
Pesca Marine Products Pvt., Ltd.
Poyilakada Fisheries Private Limited
Pijikay International Exports P Ltd.
Pravesh Seafood Private Limited
Premier Exports International
Premier Marine Foods
Premier Seafoods Exim (P) Ltd.
Protech Organo Foods Private Limited
R V R Marine Products Private Limited
Raju Exports
Rajyalaksmi Marine Exports
Ram's Assorted Cold Storage Limited
Raunaq Ice & Cold Storage
Razban Seafoods Ltd.
RDR Exports
RF Exports Private Limited
Rising Tide
Riyarchita Agro Farming Private Limited
Royal Imports and Exports
Royale Marine Impex Pvt. Ltd.
RSA Marines; Royal Oceans
Rupsha Fish Private Limited
S Chanchala Combines
S.A. Exports
Safera Food International
Sagar Grandhi Exports Pvt. Ltd.
Sagar Samrat Seafoods
Sahada Exports
Sai Aquatechs Private Limited
Sai Marine Exports Pvt. Ltd.
Sai Sea Foods
Salet Seafoods Pvt. Ltd.
Samaki Exports Private Limited
Sanchita Marine Products Private Limited
Sandhya Aqua Exports Pvt. Ltd.; Sandhya Aqua Exports
Sandhya Marines Limited
Sassoondock Matsyodyog Sahakari Society Ltd.
Sea Doris Marine Exports
Sea Foods Private Limited
Seagold Overseas Pvt. Ltd.
Seasaga Enterprises Private Limited; Seasaga Group
Sharat Industries Ltd.
Shimpo Exports Private Limited
Shimpo Seafoods Private Limited
Shiva Frozen Food Exp. Pvt. Ltd.
Shree Datt Aquaculture Farms Pvt. Ltd.
Shroff Processed Food & Cold Storage P Ltd.
Sigma Seafoods
Silver Seafood
Sita Marine Exports
Sonia Fisheries
Sonia Marine Exports Private Limited
Southern Tropical Foods Pvt. Ltd.
Sprint Exports Pvt. Ltd
Sreeragam Exports Private Limited
Sri Sakkthi Cold Storage
Srikanth International
SSF Ltd.
St. Peter & Paul Sea Food Exports Pvt. Ltd.
Star Agro Marine Exports Private Limited
Star Organic Foods Private Limited
Stellar Marine Foods Private Limited
Sterling Foods
Summit Marine Exports Private Limited
Sun Agro Exim
Sunrise Seafoods India Private Limited
Supran Exim Private Limited
Suryamitra Exim Pvt. Ltd.
Suvarna Rekha Exports Private Limited
Suvarna Rekha Marines P Ltd.
TBR Exports Private Limited
Tej Aqua Feeds Private Limited
Teekay Marines Private Limited; Teekay Marine P. Ltd.
The Waterbase Limited
Torry Harris Seafoods Ltd.
Triveni Fisheries P Ltd.
U & Company Marine Exports
Ulka Sea Foods Private Limited
Uniloids Biosciences Private Limited
Uniroyal Marine Exports Ltd.
Unitriveni Overseas Private Limited; Unitriveni Overseas
V V Marine Products
Vaisakhi Bio-Marine Private Limited
Vasai Frozen Food Co.
Vasista MarineVeerabhadra Exports Private Limited
Veronica Marine Exports Private Ltd.
Victoria Marine & Agro Exports Ltd.
Varma Marine
Vinner Marine
Vitality Aquaculture Pvt. Ltd.
VKM Foods Private Limited
VRC Marine Foods LLP
Wellcome Fisheries Limited
West Coast Fine Foods (India) Private Limited
West Coast Frozen Foods Private Limited
Z.A. Sea Foods Pvt. Ltd.
Zeal Aqua Limited
INDIA: Stainless Steel Bar, A-533-810 | 2/1/22-1/31/23
Aamor Inox Limited
Astrabite LLP
Laxcon Steels Limited
Ocean Steels Private Limited
Metlax International Private Limited
Parvati Private Limited
Mega Steels Private Limited
Venus Wire Industries Pvt. Ltd.; Precision Metals; Hindustan Inox Ltd.; Sieves Manufacturers (India) Pvt. Ltd.
MALAYSIA: Stainless Steel Butt-Weld Pipe Fittings, A-557-809 | 2/1/22-1/31/23
Pantech Stainless & Alloy Industries Sdn. Bhd.
Statewell Co., Ltd.
MEXICO: Large Residential Washers, A-201-842 | 2/1/22-1/31/23
De C.V. Electrolux Home Products Inc.
Electrolux Home Products De Mexico, S.A.
Electrolux Home Products, Corp. NV
REPUBLIC OF KOREA: Certain Cut-To-Length Carbon-Quality Steel Plate Products, A-580-836 | 2/1/22-1/31/23
BDP International
Dongkuk Steel Mill Co., Ltd.
Hyundai Steel Company
Sung Jin Steel Co., Ltd.
SOCIALIST REPUBLIC OF VIETNAM: Certain Frozen Warmwater Shrimp, A-552-802 ⁸ | 2/1/22-1/31/23
AFoods
Amanda Seafood Co., Ltd.
An Nguyen Investment Production and Group
Anh Khoa Seafood
Anh Minh Quan Corp.
APT Co.
Au Vung One Seafood
Bac Lieu Fis
Bac Lieu Fisheries Joint Stock Company
Bentre Forestry and Aquaproduct Import-Export Joint Stock Company
Bentre Seafood Joint Stock Company
Beseaco
Bien Dong Seafood Co., Ltd.
BIM Foods Joint Stock Company
Binh Dong Fisheries Joint Stock Company
Binh Thuan Import-Export Joint Stock Company
Blue Bay Seafood Co., Ltd.
C.P. Vietnam Corporation
Ca Mau Seafood Joint Stock Company
Cadovimex
Cadovimex II Seafood Import Export and Processing Joint Stock Company
Cadovimex Seafood Import-Export and Processing Joint Stock Company
Cafatex Fishery Joint Stock Corporation
CAFISH
Camau Frozen Seafood Processing Import Export Corporation
Camau Seafood Processing and Service Joint Stock Corporation
Camimex
Camimex Foods Joint Stock Company
Camimex Group
Camimex Group Joint Stock Company ⁹
Cantho Import Export Fishery Limited Company
Cantho Import Export Seafood Joint Stock Company
Caseamex
CASES
CJ Cau Tre Foods Joint Stock Company
Coastal Fisheries Development Corporation
COFIDEC
Cuu Long Seapro
Cuulong Seapro
Cuulong Seaproducts Company
Dai Phat Tien Seafood Co., Ltd.
Danang Seafood Import Export
Danang Seaproducts Import-Export Corporation
Dong Hai Seafood Limited Company
Dong Phuong Seafood Co., Ltd.
Duc Cuong Seafood Trading Co., Ltd.
Duong Hung Seafood
FAQUIMEX
FFC
FIMEX VN; Sao Ta Seafood Factory
Fine Foods Company
Frozen Seafoods Factory No. 32
Gallant Dachan Seafood Co., Ltd.
Gallant Ocean (Vietnam) Co. Ltd.
Gallant Ocean (Vietnam) Joint Stock Company
Go Dang Joint Stock Company
GODACO Seafood
Green Farms Seafood Joint Stock Company
Hai Viet Corporation
Hanh An Trading Service Co., Ltd.
HAVICO
Hoang Anh Fisheries Trading Company Limited
Hong Ngoc Seafood Co., Ltd.
Hung Bang Company Limited
Hung Dong Investment Service Trading Co., Ltd.
HungHau Agricultural Joint Stock Company
INCOMFISH
Investment Commerce Fisheries Corporation
JK Fish Co., Ltd.
Khang An Foods Joint Stock Company
Khanh Hoa Seafoods Exporting Company
Khanh Sung Co., Ltd.
KHASPEXCO
Kim Anh
Kim Anh Company Limited
Long Toan Frozen Aquatic Products Joint Stock Company
MC Seafood
Minh Bach Seafood Company Limited
Minh Cuong Seafood Import Export Processing Joint Stock Company
Minh Hai Export Frozen Seafood Processing Joint-Stock Company
Minh Hai Joint-Stock Seafoods Processing Company
Minh Hai Jostoco
Minh Phat Seafood Company Limited ¹⁰
Minh Phu Hau Giang Seafood ¹¹
Minh Phu Seafood Corporation ¹²
Minh Qui Seafood Co., Ltd.¹³
Nam Hai Foodstuff and Export Company Ltd.
Nam Phuong Foods Import Export Company Limited
Nam Viet Seafood Import Export Joint Stock Company
Namcan Seaproducts Import Export Joint Stock Company
NAVIMEXCO
New Generation Seafood Joint Stock Company
New Wind Seafood Company Limited
Ngoc Tri
Ngoc Tri Seafood Joint Stock Company
Ngoc Trinh Bac Lieu Seafood Co., Ltd.
Nguyen Chi Aquatic Product Trading Company Limited
Nha Trang Seafoods—F.89 Joint Stock Company
Nha Trang Seaproduct Company
Nhat Duc Co., Ltd.
Nigico Co., Ltd.
NT Seafoods Corporation
NTSF Seafoods Joint Stock Company
Phuong Nam Foodstuff Corp.
QAIMEXCO
QNL Company Limited
QNL One Member Company
Quang Minh Seafood Co., Ltd
Quoc Ai Seafood Processing Import Export Co., Ltd.
Quoc Toan PTE
Quoc Toan Seafood Processing Factory
Quoc Viet Seaproducts Processing Trade and Import-Export Co., Ltd.
Quoc Viet Seaproducts Processing Trading and Import-Export Co., Ltd.
Quy Nhon Frozen Seafoods Joint Stock Company
Safe And Fresh Aquatic Products Joint Stock Company
Saigon Aquatic Product Trading Joint Stock Company
Saigon Food Joint Stock Company
Sao Ta Foods Joint Stock Company
Saota Seafood Factory
Sea Minh Hai
SEADANANG
Seafood Direct 2012 One Member Limited
Seafood Joint Stock Company No. 4
Seafood Travel Construction Import-Export Joint Stock Company
Seafoods and Foodstuff Factory
Seanamico
Seaprimexco Vietnam
Seaprodex Minh Hai
Seaprodex Minh Hai Factory No. 69
Seaprodex Minh Hai Workshop 1
Seaprodex Minh Hai-Factory No. 78
Seaproducts Joint Stock Company
Seaspimex Vietnam
Seavina Joint Stock Company
Simmy Seafood Company Limited
Soc Trang Seafood Joint Stock Company
South Ha Tinh Seaproducts Import-Export Joint Stock Company
South Vina Shrimp—SVS
Southern Shrimp Joint Stock Company
Special Aquatic Products Joint Stock Company
STAPIMEX
T & P Seafood Company Limited
T&T Cam Ranh
Tacvan Frozen Seafood Processing Export Company
Tacvan Seafoods Company
Tai Kim Anh Seafood Joint Stock Corporation
Tai Nguyen Seafood Co., Ltd.
TAIKA Seafood Corporation
Tan Phong Phu Seafood Co., Ltd.
Tan Thanh Loi Frozen Food Co., Ltd.
Tay Do Seafood Enterprise
THADIMEXCO
Thai Hoa Foods Joint Stock Company
Thai Minh Long Seafood Company Limited
Thaimex
Thanh Doan Fisheries Import-Export Joint Stock Company
Thanh Doan Sea Products Import & Export Processing Joint-Stock Company
Thanh Doan Seafood Import Export Trading Joint-Stock Company
The Light Seafood Company Limited
Thien Phu Export Seafood
Thinh Hung Co., Ltd.
Thinh Phu Aquatic Products Trading Co., Ltd.
Thong Thuan Cam Ranh Seafood Joint Stock Company
Thong Thuan Company Limited
Thuan Phuoc Seafoods and Trading Corporation
Thuan Thien Producing Trading Ltd. Co.
TPP Co. Ltd.
Trang Corporation (Vietnam)
Trang Khanh Seafood Co., Ltd.
Trong Nhan Seafood Co., Ltd.
Trung Son Corp.
Trung Son Seafood Processing Joint Stock Company
UTXI Aquatic Products Processing Corporation
UTXICO
Van Duc Food Company Limited
Viet Asia Foods Company Limited
Viet Foods Co. Ltd.
Viet Hai Seafood Co., Ltd.
Viet I-Mei Frozen Foods Co., Ltd.
Viet Phu Foods and Fish Corp.
Viet Shrimp Corporation
Vietnam Clean Seafood Corporation
Vietnam Fish One Co., Ltd.
VIFAFOOD
Vina Cleanfood
Vinh Hoan Corp.
Vinh Phat Food Joint Stock Company
XNK Thinh Phat Processing Company
TAIWAN: Crystalline Silicon Photovoltaic Products, A-583-853 | 2/1/22-1/31/23
Voyager Photovoltaic Co., Ltd.
THAILAND: Certain Frozen Warmwater Shrimp, A-549-822 | 2/1/22-1/31/23
A. Wattanachai Frozen Products Co., Ltd.
A.P. Frozen Foods Co., Ltd.
A.S. Intermarine Foods Co., Ltd.
Ampai Frozen Food Co., Ltd.
Anglo-Siam Seafoods Co., Ltd.
Apitoon Enterprise Industry Co., Ltd.
Asian Alliance International Co., Ltd.
Asian Sea Corporation Public Company Limited
Asian Seafoods Coldstorage PLC
Asian Seafoods Coldstorage Public Co., Ltd. (A.K.A. Asian Seafoods Coldstorage (Suratthani) Co.)
Asian Seafoods Coldstorage Public Company Limited
Asian Star Trading Co., Ltd.
B.S.A. Food Products Co., Ltd.
Bright Sea Co., Ltd.; The Union Frozen Products Co., Ltd.¹⁴
C N Import Export Co., Ltd.
C.K. Frozen Fish and Food Co., Ltd.
C.P. Intertrade Co. Ltd.
Chaivaree Marine Products Co., Ltd.
Chanthaburi Frozen Food Co., Ltd.¹⁵
Chanthaburi Seafoods Co., Ltd.¹⁶
Charoen Pokphand Foods Public Co. Ltd.; CP Merchandising Co., Ltd.¹⁷
Chonburi LC
Commonwealth Trading Co., Ltd.
CPF Food Products Co., Ltd.
Crystal Frozen Foods Co., Ltd.
Daedong (Thailand) Co., Ltd.
Daiei Taigen (Thailand) Co., Ltd.
Daiho (Thailand) Co., Ltd.
Earth Food Manufacturing Co., Ltd.
F.A.I.T. Corporation Limited
Far East Cold Storage Co., Ltd.
Findus (Thailand) Ltd.
Fortune Frozen Foods (Thailand) Co., Ltd.
Gallant Ocean (Thailand) Co., Ltd.
Golden Sea Frozen Foods Co. Ltd.
Golden Seafood International Co., Ltd.
Good Fortune Cold Storage Co. Ltd.; Good Fortune Cold Storage Ltd.
Good Luck Product Co., Ltd.
Grobest Frozen Foods Co., Ltd.
Haitai Seafood Co., Ltd.
Handy International (Thailand) Co., Ltd.
Heritrade; Heritrade Co., Ltd.
HIC (Thailand) Co., Ltd.
I.T. Foods Industries Co., Ltd.
Inter-Oceanic Resources Co., Ltd.
Inter-Pacific Marine Products Co., Ltd.
K & U Enterprise Co., Ltd.
Kiang Huat Sea Gull Trading Frozen Food Public Co., Ltd.
KF Foods; KF Foods Limited; Kingfisher Holdings Limited ¹⁸
Kitchens of the Ocean (Thailand) Company Ltd.; Kitchens of the Ocean (Thailand) Ltd.
Kongphop Frozen Foods Co., Ltd.
Kyokuyo Global Seafoods Co., Ltd.
Lee Heng Seafood Co., Ltd.
Li-Thai Frozen Foods Co., Ltd.
Lucky Union Foods Co., Ltd.
Mahachai Food Processing Co., Ltd.
Marine Gold Products Ltd.¹⁹
May Ao Foods Co., Ltd.; A Foods 1991 Co., Limited ²⁰
Merkur Co., Ltd.
N&N Foods Co., Ltd.
N.R. Instant Produce Co., Ltd.
Narong Seafood Co., Ltd.
Nongmon SMJ Products
Pacific Fish Processing Co., Ltd.
Penta Impex Co., Ltd.
Phatthana Frozen Food Co., Ltd.²¹
Phatthana Seafood Co., Ltd.²²
Premier Frozen Products Co., Ltd.
Royal Andaman Seafood Co., Ltd.
S&D Marine Products Co., Ltd.
S. Chaivaree Cold Storage Co., Ltd.
S. Khonkaen Food Ind Public; S. Khonkaen Food Industry Public Co., Ltd.
S.K. Foods (Thailand) Public Co. Limited
S2K Marine Product Co., Ltd.
Sea Bonanza Food Co., Ltd.
Sea Wealth Frozen Food Co., Ltd.²³
Seafresh Fisheries; Seafresh Industry Public Co., Ltd.²⁴
SEAPAC
Sea-Tech Intertrade Co., Ltd.
Sethachon Co., Ltd.
Shianlin Bangkok Co., Ltd.
Shing-Fu Seaproducts Development Co. Ltd.; Shing Fu Seaproducts Development Co.
Siam Food Supply Co., Ltd.
Siam Intersea Co., Ltd.
Siam Marine Products Co., Ltd.
Siam Ocean Frozen Foods Co., Ltd.
The Siam Union Frozen Foods Co., Ltd.; Siam Union Frozen Foods
Siamchai International Food Co., Ltd.
Smile Heart Foods Co. Ltd.; Smile Heart Foods
SMP Food Products Co., Ltd.; SMP Foods Products Co., Ltd.; SMP Products, Co., Ltd.; SMP Food Product Co., Ltd.
Songkla Canning Public Co., Ltd.
Southeast Asian Packaging and Canning Ltd.
Southport Seafood Co., Ltd.; Southport Seafood
Starfoods Industries Co., Ltd.
STC Foodpak Ltd.
Suntechthai Intertrading Co., Ltd.
Surapon Seafood; Surapon Seafoods Public Co. Ltd; Surat Seafoods Public Co., Ltd.; Surapon Foods Public Co., Ltd.²⁵
Surapon Nichirei Foods Co., Ltd.
Tep Kinsho Foods Co., Ltd.
Chaiwarut Company Limited; Chaiwarut Co., Ltd.; Tey Seng Cold Storage Co., Ltd.²⁶
Thai Agri Foods Public Co., Ltd.
Thai I-Mei Frozen Foods Co., Ltd.²⁷
Thai Ocean Venture Co., Ltd.
Thai Royal Frozen Food Co., Ltd.
Thai Spring Fish Co., Ltd.
Thai Union Group Public Co., Ltd.; Thai Union Seafood Co., Ltd.; Pakfood Public Company Limited; Asia Pacific (Thailand) Co., Ltd.; Chaophraya Cold Storage Co., Ltd.; Okeanos Co., Ltd.; Okeanos Food Co., Ltd.; Takzin Samut Co., Ltd.²⁸
Thai Union Manufacturing Company Limited
Top Product Food Co., Ltd.
Trang Seafood Products Public Co., Ltd.
Unicord Public Co., Ltd.
Xian-Ning Seafood Co., Ltd.
Yeenin Frozen Foods Co., Ltd.
THE PEOPLE'S REPUBLIC OF CHINA: Certain Frozen Warmwater Shrimp, A-570-893 | 2/1/22-1/31/23
Allied Kinpacific Food (Dalian) Co.
Allied Pacific Aquatic Products (Zhanjiang) Co., Ltd./Allied Pacific Food (Dalian) Co., Ltd.²⁹
Anhui Fuhuang Sungem Foodstuff Group Co., Ltd.
Asian Seafoods (Zhanjiang) Co., Ltd.
Beihai Anbang Seafood Co., Ltd.
Beihai Boston Frozen Food Co., Ltd.
Beihai Evergreen Aquatic Product Science and Technology Company Limited
Beihai Tianwei Aquatic Food Co. Ltd.
Changli Luquan Aquatic Products Co., Ltd.
Chengda Development Co Ltd.
Colorful Bright Trade Co., Ltd.
Dalian Beauty Seafood Company Ltd.
Dalian Changfeng Food Co., Ltd.
Dalian Guofu Aquatic Products and Food Co., Ltd.
Dalian Haiqing Food Co., Ltd.
Dalian Hengtai Foods Co., Ltd.
Dalian Home Sea International Trading Co., Ltd.
Dalian Philica International Trade Co., Ltd.
Dalian Rich Enterprise Group Co., Ltd.
Dalian Shanhai Seafood Co., Ltd.
Dalian Sunrise Foodstuffs Co., Ltd.
Dalian Taiyang Aquatic Products Co., Ltd.
Dandong Taihong Foodstuff Co., Ltd.
Dongwei Aquatic Products (Zhangzhou) Co., Ltd.
Ferrero Food
Fujian Chaohui Group
Fujian Chaowei International Trading
Fujian Dongshan County Shunfa Aquatic Product Co., Ltd
Fujian Dongwei Food Co., Ltd.
Fujian Dongya Aquatic Products Co., Ltd.
Fujian Fuding Seagull Fishing Food Co., Ltd.
Fujian Haihun Aquatic Product Company
Fujian Hainason Trading Co., Ltd.
Fujian Hongao Trade Development Co.
Fujian R & J Group Ltd.
Fujian Rongjiang Import and Export Co., Ltd.
Fujian Zhaoan Haili Aquatic Co., Ltd.
Fuqing Chaohui Aquatic Food Co., Ltd.
Fuqing Dongwei Aquatic Products Industry Co., Ltd.
Fuqing Longhua Aquatic Food Co., Ltd.
Fuqing Minhua Trade Co., Ltd.
Fuqing Yihua Aquatic Food Co., Ltd.
Gallant Ocean Group
Guangdong Evergreen Aquatic Food Co., Ltd.
Guangdong Foodstuffs Import & Export (Group) Corporation
Guangdong Gourmet Aquatic Products Co., Ltd.
Guangdong Jinhang Foods Co., Ltd.
Guangdong Rainbow Aquatic Development
Guangdong Savvy Seafood Inc.
Guangdong Shunxin Marine Fishery Group Co., Ltd.
Guangdong Taizhou Import & Export Trade Co., Ltd.
Guangdong Universal Aquatic Food Co. Ltd.
Guangdong Wanshida Holding Corp.
Guangdong Wanya Foods Fty. Co., Ltd.
HaiLi Aquatic Product Co., Ltd
Hainan Brich Aquatic Products Co., Ltd.
Hainan Golden Spring Foods Co., Ltd.
Hainan Qinfu Foods Co., Ltd.
Hainan Xintaisheng Industry Co., Ltd.
Huazhou Xinhai Aquatic Products Co. Ltd.
Kuehne Nagel Ltd. Xiamen Branch
Leizhou Bei Bu Wan Sea Products Co., Ltd.
Longhai Gelin Foods Co., Ltd.
Maoming Xinzhou Seafood Co., Ltd.
New Continent Foods Co., Ltd.
Ningbo Prolar Global Co., Ltd.
North Seafood Group Co.
Pacific Andes Food Ltd.
Penglai Huiyang Foodstuff Co., Ltd.
Penglai Yuming Foodstuff Co., Ltd.
Qingdao Fusheng Foodstuffs Co., Ltd.
Qingdao Yihexing Foods Co., Ltd.
Qingdao Yize Food Co., Ltd.
Qingdao Zhongfu International
Qinhuangdao Gangwan Aquatic Products Co., Ltd.
Rizhao Meijia Aquatic Foodstuff Co., Ltd.
Rizhao Meijia Keyuan Foods Co. Ltd.
Rizhao Rongjin Aquatic
Rizhao Rongxing Co. Ltd.
Rizhao Smart Foods Company Limited
Rongcheng Sanyue Foodstuff Co., Ltd.
Rongcheng Yinhai Aquatic Product Co., Ltd.
Ruian Huasheng Aquatic Products
Rushan Chunjiangyuan Foodstuffs Co., Ltd.
Rushan Hengbo Aquatic Products Co., Ltd.
Savvy Seafood Inc.
Sea Trade International Inc.
Shanghai Finigate Integrated
Shanghai Zhoulian Foods Co., Ltd.
Shantou Freezing Aquatic Product Foodstuffs Co.
Shantou Haili Aquatic Product Co. Ltd.
Shantou Haimao Foodstuff Factory Co., Ltd.
Shantou Jiazhou Food Industrial Co., Ltd.
Shantou Jinping Oceanstar Business Co., Ltd.
Shantou Jintai Aquatic Product Industrial Co., Ltd.
Shantou Longsheng Aquatic Product Foodstuff Co., Ltd.
Shantou Ocean Best Seafood Corporation
Shantou Red Garden Food Processing Co., Ltd./Shantou Red Garden Foodstuff Co., Ltd.³⁰
Shantou Ruiyuan Industry Co., Ltd.
Shantou Wanya Foods Fty. Co., Ltd.
Shantou Yuexing Enterprise Company
Shengyuan Aquatic Food Co., Ltd.
Suizhong Tieshan Food Co., Ltd.
Thai Royal Frozen Food Zhanjiang Co., Ltd.
Tongwei Hainan Aquatic Products Co., Ltd.
Time Seafood (Dalian) Company Limited
Xiamen East Ocean Foods Co., Ltd.
Xiamen Granda Import and Export Co., Ltd.
Yangjiang Dawu Aquatic Products Co., Ltd.
Yangjiang Guolian Seafood Co., Ltd.
Yangjiang Haina Datong Trading Co.
Yantai Longda Foodstuffs Co., Ltd.
Yantai Tedfoods Co., Ltd.
Yantai Wei-Cheng Food Co., Ltd.
Yixing Magnolia Garment Co., Ltd.
Zhangzhou Donghao Seafoods Co., Ltd.
Zhangzhou Fuzhiyuan Food Co., Ltd.
Zhangzhou Hongwei Foods Co., Ltd.
Zhangzhou Tai Yi Import & Export Trading Co., Ltd.
Zhangzhou Xinhui Foods Co., Ltd.
Zhangzhou Xinwanya Aquatic Product Co., Ltd.
Zhangzhou Yanfeng Aquatic Product & Foodstuff Co., Ltd.
Zhanjiang Evergreen Aquatic Product Science and Technology Co., Ltd.
Zhanjiang Fuchang Aquatic Products Co., Ltd.
Zhanjiang Fuchang Aquatic Products Freezing Plant
Zhanjiang Go-Harvest Aquatic Products Co., Ltd.
Zhanjiang Guolian Aquatic Products Co., Ltd.³¹
Zhanjiang Longwei Aquatic Products Industry Co., Ltd.
Zhanjiang Regal Integrated Marine Resources Co., Ltd.³²
Zhanjiang Universal Seafood Corp.
Zhaoan Yangli Aquatic Co., Ltd.
Zhejiang Evernew Seafood Co.
Zhejiang Tianhe Aquatic Products
Zhejiang Xinwang Foodstuffs Co., Ltd.
Zhenye Aquatic (Huilong) Ltd.
Zhoushan Genho Food Co., Ltd.
Zhoushan Green Food Co., Ltd.
Zhoushan Haizhou Aquatic Products
Zhuanghe Yongchun Marine Products
THE PEOPLE'S REPUBLIC OF CHINA: Common Alloy Aluminum Sheet, A-570-073 | 2/1/22-1/31/23
Alcha International Holdings Limited
Baotou Alcha Aluminum Co., Ltd.³³
Henan Mingsheng New Material Technology
Henan Mingtai Al. Industrial Co., Ltd.
Jiangsu Alcha Aluminum Group Co., Ltd.³⁴
Mingtai Aluminum
Yinbang Clad Material Co., Ltd
Zhengzhou Mingtai Industry, Co., Ltd.
THE PEOPLE'S REPUBLIC OF CHINA: Crystalline Silicon Photovoltaic Products, A-570-010 | 2/1/22-1/31/23
Anji Dasol Solar Energy Science & Technology Co., Ltd.
Baoding Jiasheng Photovoltaic Technology Co., Ltd.
Baoding Tianwei Yingli New Energy Resources Co., Ltd.
Beijing Tianneng Yingli New Energy Resources Co., Ltd.
BYD (Shangluo) Industrial Co., Ltd.
Canadian Solar International Limited
Canadian Solar Manufacturing (Changshu) Inc.
Canadian Solar Manufacturing (Luoyang) Inc.
Changzhou Trina Hezhong Photoelectric Co., Ltd.
Changzhou Trina Solar Energy Co., Ltd.
Changzhou Trina Solar Yabang Energy Co., Ltd.
Chint Energy (Haining) Co., Ltd.
Chint New Energy Technology (Haining) Co. Ltd.
Chint Solar (Hong Kong) Company Limited
Chint Solar (Jiuquan) Co., Ltd.
Chint Solar (Zhejiang) Co., Ltd.
CSI Cells Co., Ltd.
CSI Solar Power (China) Inc.
CSI-GCL Solar Manufacturing (Yancheng) Co., Ltd.
De-Tech Trading Limited HK
Hainan Yingli New Energy Resources Co., Ltd.
Hefei JA Solar Technology Co., Ltd.
Hengdian Group DMEGC Magnetics Co. Ltd.
Hengshui Yingli New Energy Resources Co., Ltd.
Hubei Trina Solar Energy Co., Ltd.
JA Solar Co., Ltd.
JA Solar Technology Yangzhou Co., Ltd.
Jiangsu Jinko Tiansheng Solar Co., Ltd.
Jiawei Solarchina (Shenzhen) Co., Ltd.
Jiawei Solarchina Co., Ltd.
JingAo Solar Co., Ltd.
Jinko Solar Co. Ltd.
Jinko Solar Import and Export Co., Ltd.
Jinko Solar International Limited
JinkoSolar Technology (Haining) Co., Ltd.
Jiujiang Shengchao Xinye Technology Co., Ltd.
Jiujiang Shengzhao Xinye Trade Co., Ltd.
Lerri Solar Technology Co., Ltd.
Lightway Green New Energy Co., Ltd.
Lixian Yingli New Energy Resources Co., Ltd.
Longi (HK) Trading Ltd.
Longi Solar Technology Co. Ltd.
Luoyang Suntech Power Co., Ltd.
Ningbo ETDZ Holdings, Ltd.
Ningbo Qixin Solar Electrical Appliance Co., Ltd.
Perlight Solar Co., Ltd.
Renesola Jiangsu Ltd.
ReneSola Zhejiang Ltd.
Risen (Luoyang) New Energy Co., Ltd.
Risen (Wuhai) New Energy Co., Ltd.
Risen Energy (Changzhou) Co., Ltd.
Risen Energy Co. Ltd.
Ruichang Branch, Risen Energy (HongKong) Co., Ltd.
Shanghai BYD Co., Ltd.
Shenzhen Sungold Solar Co., Ltd.
Shenzhen Topray Solar Co., Ltd.
Shenzhen Yingli New Energy Resources Co., Ltd.
Sumec Hardware & Tools Co., Ltd.
Sunny Apex Development Ltd.
Suntech Power Co., Ltd.
Taizhou BD Trade Co., Ltd.
tenKsolar (Shanghai) Co., Ltd.
Tianjin Yingli New Energy Resources Co., Ltd.
Trina Solar (Changzhou) Science & Technology Co., Ltd.
Trina Solar (Changzhou) Science and Technology Co., Ltd.
Trina Solar (Hefei) Science and Technology Co., Ltd.
Trina Solar Co., Ltd.
Turpan Trina Solar Energy Co., Ltd.
Wuxi Suntech Power Co., Ltd.
Wuxi Tianran Photovoltaic Co., Ltd.
Xiamen Yiyusheng Solar Co., Ltd.
Yancheng Trina Guoneng Photovoltaic Technology Co., Ltd.
Yingli Energy (China) Company Limited
Yingli Green Energy International Trading Company Limited
Yuhuan Jinko Solar Co., Ltd.
Zhejiang Aiko Solar Energy Technology Co., Ltd.
Zhejiang Jinko Solar Co., Ltd.
Zhejiang Twinsel Electronic Technology Co., Ltd.
THE PEOPLE'S REPUBLIC OF CHINA: Small Diameter Graphite Electrodes, A-570-929 | 2/1/22-1/31/23
Beijing Fangda Carbon Tech Co., Ltd./Chengdu Rongguang Carbon Co., Ltd./Fangda Carbon New Material Co., Ltd./Fushun Carbon Co., Ltd.; Hefei Carbon Co., Ltd.
Fushun Jinly Petrochemical Carbon Co., Ltd.
Jilin Carbon Import and Export Company
Xinghe County Muzi Carbon Co., Ltd.; Xinghe County Muzi Carbon Plant
Xuzhou Jianglong Carbon Products Co., Ltd.
THE PEOPLE'S REPUBLIC OF CHINA: Truck and Bus Tires, A-570-040 | 2/1/22-1/31/23
Qingdao Fullrun Tyre Corp. Ltd.
Shandong Haohua Tire Co., Ltd.
Shandong Kaixuan Rubber Co., Ltd.
Shandong Transtone Tyre Co., Ltd.
THE PEOPLE'S REPUBLIC OF CHINA: Utility Scale Wind Towers, A-570-981 | 2/1/22-1/31/23
AUSKY (Shandong) Machinery Manufacturing Co., Ltd.
AVIC International Renewable Energy Co., Ltd.
Baotou Titan Wind Power Equipment Co., Ltd.
Baicheng Tianqi Equipment Manufacturing Engineering Co. Ltd.
Chengxi Shipyard Co., Ltd.
China WindPower Group
CleanTech Innovations Inc.
CRRC Wind Power (Shandong) Co., Ltd.
CS Wind China Co., Ltd.
Dajin Heavy Industry Corporation
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangyin Hengrun Ring Forging Co., Ltd.
Jilin Miracle Equipment Manufacturing Engineering Co., Ltd.
Jilin Tianhe Wind Power Equipment Co., Ltd.
Nanjing Jiangbiao Group Co., Ltd.
Nantong Dongtai New Energy Equipment Co., Ltd.
Nantong Hongbo Windpower Equipment Co., Ltd.
Ningxia Electric Power Group
Ningxia Yinyi Wind Power Generation Co., Ltd.
Nordex Dongying Wind Power Equipment Manufacturing Co. Ltd.
Renewable Energy Asia Group Ltd.
Shandong Zhongkai Wind Power Equipment Manufacturers, Ltd.
Shandong Endless Wind Turbine Technical Equipment Co., Ltd.
Shandong Iraeta Heavy Industry
Shanghai Aerotech Trading International
Shanghai GE Guangdian Co., Ltd.
Shanghai Taisheng Wind Power Equipment Co., Ltd.
Shenyang Titan Metal Co., Ltd.
Siemens Gamesa Renewable Energy, S.A.
Sinovel Wind Group Co., Ltd.
Suihua Wuxiao Electric Power Equipment Co., Ltd.
Titan Wind Energy (Suzhou) Co., Ltd.
Titan (Lianyungang) Metal Product Co., Ltd.
Qingdao GeLinTe Environmental Protection Equipment Co., Ltd.
Qingdao Ocean Group
Qingdao Tianneng Electric Power Engineering Machinery Co., Ltd.
Qingdao Wuxiao Group Co., Ltd.
Vestas Wind Technology (China) Co., Ltd.
Wuxiao Steel Tower Co., Ltd.
Xinjiang Huitong (Group) Co., Ltd.
Xinjiang Goldwind Science & Technology Co., Ltd.
Zhejiang Guoxing Steel Structure Co., Ltd.
THE PEOPLE'S REPUBLIC OF CHINA: Wood Mouldings and Millwork Products, A-570-117 | 2/1/22-1/31/23
Anji Huaxin Bamboo & Wood Products Co., Ltd.
Aventra Inc.
Baixing Import and Export Trading Co., Ltd Youxi Fujian
Bel Trade Wood Industrial Co.
Bel Trade Wood Industrial Co., Ltd. Youxi Fujian
China Cornici Co. Ltd.
Composite Technology International, Limited
Fotiou Frames Limited
Fujian Hongjia Craft Products Co., Ltd.
Fujian Jinquan Trade Co., Ltd.
Fujian Province Youxi County Baiyuan Wood Machining Co., Ltd.
Fujian Sanming City Donglai Wood Co., Ltd.
Fujian Shunchang Shengsheng Wood Industry Limited Company
Fujian Wangbin Decorative Material Co., Ltd.
Fujian Yinfeng Imp & Exp Trading Co., Ltd.; Fujian Province Youxi City Mangrove Wood Machining Co., Ltd.
Fujian Youxi Best Arts & Crafts Co. Ltd.
Fujian Zhangping Kimura Forestry Products Co., Ltd.
Gaomi Hongtai Home Furniture Co., Ltd.
Homebuild Industries Co., Ltd.
Huaan Longda Wood Industry Co., Ltd.
Jiangsu Chensheng Forestry Development Co., Ltd.
Jiangsu Wenfeng Wood Co., Ltd.
Jim Fine Wooden Products Co., Ltd.
Longquan Jiefeng Trade Co., Ltd.
Nanping Huatai Wood & Bamboo Co., Ltd.
Nicer Window Fashions Co., Ltd.
Omni One Co., Limited
Putian Yihong Wood Industry Co., Ltd.
Quimen Jianxing Bamboo and Wood Goods Co., Ltd.
Raoping HongRong Handicrafts Co., Ltd. (d.b.a. Chen Chui Global Corp.)
Rui Xing Wooden Products Co., Ltd.
Sanming Lintong Trading Co., Ltd.
Shandong Miting Household Co., Ltd.
Shaxian Hengtong Wood Industry Co., Ltd.
Shaxian Shiyiwood, Ltd.
Shenzhen Xinjintai Industrial Co., Ltd.
Shuyang Kevin International Co., Ltd.
Shuyang Zhongding Decoration Materials Co., Ltd.
Sun Valley Shade Co., Ltd.
Suqian Sulu Import & Export Trading Co., Ltd.
Tim Feng Manufacturing Co., Ltd.
TL Wood Products Inc.
Wuxi Boda Bamboo & Wood Industrial Co., Ltd.
Xiamen Jinxi Building Material Co., Ltd.
Xuzhou Goodwill Resource Co., Ltd.
Zhangzhou Green Wood Industry and Trade Co., Ltd.
Zhangzhou Wangjiamei Industry & Trade Co., Ltd.
Zhangzhou Yihong Industrial Co., Ltd.
Zhejiang Senya Board Industry Co., Ltd.
CVD Proceedings
INDIA: Certain Cold-Drawn Mechanical Tubing of Carbon and Alloy Steel, C-533-874 | 1/1/22-12/31/22
Global Seamless Tubes & Pipes Pvt. Ltd
Goodluck India Limited (formerly Good Luck Steel Tubes Limited); Good Luck Steel Tubes Limited Good Luck House; Good Luck Industries
Lal Baba Seamless Tubes Pvt. Ltd.
Metamorphosis Engitech India Pvt. Ltd.
Pennar Industries Limited India
REPUBLIC OF KOREA: Certain Cut-To-Length Carbon-Quality Steel Plate, C-580-837 | 1/1/22-12/31/22
BDP International
Dongkuk Steel Mill Co., Ltd.
Hyundai Steel Company
Sung Jin Steel Co., Ltd.
THE PEOPLE'S REPUBLIC OF CHINA: Certain Hardwood Plywood Products, C-570-052 | 1/1/22-12/31/22
Thang Long Wood Panel Company Ltd.³⁵
THE PEOPLE'S REPUBLIC OF CHINA: Common Alloy Aluminum Sheet, C-570-074 | 1/1/22-12/31/22
Alcha International Holdings Limited; Baotou Alcha Aluminium Co., Ltd.; Jiangsu Alcha Aluminium Co., Ltd.; Jiangsu Alcha New Energy Materials Co., Ltd.³⁶
Henan Gongdian Thermal Co., Ltd.; Henan Mingtai Industrial Co., Ltd.; Zhengzhou Mingtai Industry, Co., Ltd.³⁷
Henan Mingsheng New Material Technology
Jiangsu Alcha Aluminum Co., Ltd.³⁸
Jiangsu Alcha Aluminium Group Co., Ltd.³⁹
Jiangsu Alcha Aluminum Group Co., Ltd.⁴⁰
Mingtai Aluminum ⁴¹
Yinbang Clad Material Co., Ltd.
THE PEOPLE'S REPUBLIC OF CHINA: Truck and Bus Tires, C-570-041 | 1/1/22-12/31/22
Bridgestone Tire Co., Ltd.
Bridgestone (Shenyang) Tire Co., Ltd.
Qingdao Ge Rui Da Rubber Co., Ltd.; Cooper Tire (China) Investment Co. Ltd.; Qingdao Yiyuan Investment Co., Ltd.; and Cooper Tire Asia-Pacific (Shanghai) Trading Co., Ltd.⁴²
Goodyear (Dalian) Tire Company Limited
Sailun Group Co., Ltd.
Sailun Group (Hong Kong) Co., Limited
Shandong Linglong Tyre Co., Ltd.
Qingdao Fullrun Tyre Corp. Ltd.
Shandong Haohua Tire Co., Ltd.
Shandong Kaixuan Rubber Co., Ltd.
Shandong Transtone Tyre Co., Ltd.
Jiangsu Hankook Tire Co., Ltd.
Chongqing Hankook Tire Co., Ltd.
Jiangsu General Science Technology Co., Ltd.
Prinx Chengshan (Shandong) Tire Co., Ltd.; Chengshan Group Co., Ltd.; Shanghai Chengzhan Information and Technology Center; Prinx Chengshan (Qingdao) Industrial Research & Design Co., Ltd.; and Shandong Prinx Chengshan Tire Technology Research Co., Ltd.⁴³ Sinotyre International Group Co., Ltd.
Triangle Tyre Co., Ltd.
Weifang Shunfuchang Rubber and Plastic Products Co., Ltd.
THE PEOPLE'S REPUBLIC OF CHINA: Mobile Access Equipment and Subassemblies Thereof, ⁴⁴ C-570-140 | 12/9/21-12/31/21
Linyi Lingong Machinery Group Co., Ltd.
Zhejiang Green Power Machinery Co., Ltd.
Shengda Fenghe Automotive Equipment Co., Ltd.
THE PEOPLE'S REPUBLIC OF CHINA: Utility Scale Wind Towers, C-570-982 | 1/1/22-12/31/22
AUSKY (Shandong) Machinery Manufacturing Co., Ltd.
AVIC International Renewable Energy Co., Ltd.
Baotou Titan Wind Power Equipment Co., Ltd. (aka Baotou Titan Wind Energy Equipment Co. Ltd.)
Baicheng Tianqi Equipment Manufacturing Engineering Co. Ltd.
Chengxi Shipyard Co., Ltd.
China WindPower Group
CleanTech Innovations Inc.
CRRC Wind Power (Shandong) Co., Ltd.
CS Wind China Co., Ltd.
Dajin Heavy Industry Corporation
Guangdong No. 2 Hydropower Engineering Co., Ltd.
Guodian United Power Technology Baoding Co., Ltd.
Harbin Hongguang Boiler Group Co., Ltd.
Hebei Ningqiang Group
Hebei Qiangsheng Wind Equipment Co., Ltd.
Jiangsu Baolong Electromechanical Mfg. Co., Ltd.
Jiangsu Baolong Tower Tube Manufacture Co., Ltd.
Jiangyin Hengrun Ring Forging Co., Ltd.
Jilin Miracle Equipment Manufacturing Engineering Co., Ltd.
Jilin Tianhe Wind Power Equipment Co., Ltd.
Nanjing Jiangbiao Group Co., Ltd.
Nantong Dongtai New Energy Equipment Co., Ltd.
Nantong Hongbo Windpower Equipment Co., Ltd.
Ningxia Electric Power Group
Ningxia Yinyi Wind Power Generation Co., Ltd.
Nordex Dongying Wind Power Equipment Manufacturing Co. Ltd.
Renewable Energy Asia Group Ltd.
Shandong Zhongkai Wind Power Equipment Manufacturers, Ltd.
Shandong Endless Wind Turbine Technical Equipment Co., Ltd.
Shandong Iraeta Heavy Industry
Shanghai Aerotech Trading International
Shanghai GE Guangdian Co., Ltd.
Shanghai Taisheng Wind Power Equipment Co., Ltd.
Shenyang Titan Metal Co., Ltd.
Siemens Gamesa Renewable Energy, S.A.
Sinovel Wind Group Co., Ltd.
Suihua Wuxiao Electric Power Equipment Co., Ltd.
Titan Wind Energy (Suzhou) Co., Ltd. (aka Titan Wind (Suzhou) Co. Ltd.)
Titan (Lianyungang) Metal Product Co., Ltd. (aka Titan Lianyungang Metal Products Co., Ltd.)
Qingdao GeLinTe Environmental Protection Equipment Co., Ltd.
Qingdao Ocean Group
Qingdao Tianneng Electric Power Engineering Machinery Co., Ltd.
Qingdao Wuxiao Group Co., Ltd.
Vestas Wind Technology (China) Co., Ltd.
Wuxiao Steel Tower Co., Ltd.
Xinjiang Huitong (Group) Co., Ltd.
Xinjiang Goldwind Science & Technology Co., Ltd.
Zhejiang Guoxing Steel Structure Co., Ltd
THE PEOPLE'S REPUBLIC OF CHINA: Wood Mouldings and Millwork Products, C-570-118 | 1/1/22-12/31/22
Anji Huaxin Bamboo & Wood Products Co., Ltd.
Aventra Inc.
Baixing Import and Export Trading Co., Ltd Youxi Fujian
Bel Trade Wood Industrial Co.
Bel Trade Wood Industrial Co., Ltd Youxi Fujian
Cao County Hengda Wood Products Co., Ltd.
China Cornici Co. Ltd.
Composite Technology International, Limited
Fotiou Frames Limited
Fujian Hongjia Craft Products Co., Ltd.
Fujian Jinquan Trade Co., Ltd.
Fujian Province Youxi County Baiyuan Wood Machining Co., Ltd.
Fujian Sanming City Donglai Wood Co., Ltd.
Fujian Shunchang Shengsheng Wood Industry Limited Company
Fujian Wangbin Decorative Material Co., Ltd.
Fujian Yinfeng Imp & Exp Trading Co., Ltd.; Fujian Province Youxi City Mangrove
Wood Machining Co., Ltd.; Fujian Province Youxi City Mangrove Wood Machining Co., Ltd., Xicheng Branch
Fujian Youxi Best Arts & Crafts Co. Ltd.
Fujian Zhangping Kimura Forestry Products Co., Ltd.
Homebuild Industries Co., Ltd.
Huaan Longda Wood Industry Co., Ltd.
Jiangsu Chensheng Forestry Development Co., Ltd.
Jiangsu Wenfeng Wood Co., Ltd.
Longquan Jiefeng Trade Co., Ltd.
Nanping Huatai Wood & Bamboo Co., Ltd.
Nanping Huatai Wood and Bamboo Co., Ltd.
Omni One Co., Limited
Putian Yihong Wood Industry Co., Ltd.
Raoping HongRong Handicrafts Co., Ltd. (d.b.a. Chen Chui Global Corp.)
Shandong Miting Household Co., Ltd.
Shaxian Hengtong Wood Industry Co., Ltd.
Shaxian Shiyiwood, Ltd.
Shenzhen Xinjintai Industrial Co., Ltd.
Shuyang Kevin International Co., Ltd.
Shuyang Zhongding Decoration Materials Co., Ltd.
Suqian Sulu Import & Export Trading Co., Ltd.
Wuxi Boda Bamboo & Wood Industrial Co., Ltd.
Xiamen Jinxi Building Material Co., Ltd.
Zhangzhou Green Wood Industry and Trade Co., Ltd.
Zhangzhou Wangjiamei Industry & Trade Co., Ltd.
Zhangzhou Yihong Industrial Co., Ltd.
Zhejiang Senya Board Industry Co., Ltd.
Suspension Agreements
None

Duty Absorption Reviews

⁶ On December 23, 2022, Commerce determined that Kader Exports Private Limited is the successor-in-interest to the Liberty Group, which is comprised of the companies listed above. See Certain Frozen Warmwater Shrimp from India: Notice of Final Results of Antidumping Duty Changed Circumstances Review, 87 FR 78941 (December 23, 2022). Therefore, at the conclusion of this review, Commerce will assign a cash deposit rate to Kader Exports Private Limited, not to the Liberty Group.

⁷ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

⁸ Where interested parties requested review of a company name combined with an abbreviation of the company name or alternative (i.e., doing-business-as) name, Commerce treated the company names separately from those abbreviations/alternatives for review initiation purposes.

⁹ Interested parties requested a review of Camau Frozen Seafood Processing Import Export Corporation, but Commerce has previously determined that Camimex Group Joint Stock Company is the successor-in-interest to Camau Frozen Seafood Processing Import Export Corporation, so has only listed Camimex Group Joint Stock Company in this notice. See Certain Frozen Warmwater Shrimp from the Socialist Republic of Vietnam: Notice of Final Results of Antidumping Duty Changed Circumstances Review, 86 FR 47617, August 26, 2021.

¹⁰ Shrimp produced and exported by Minh Phat Seafood Company Limited were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹¹ Shrimp produced and exported by Minh Phu Hau Giang Seafood were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹² Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹³ Shrimp produced and exported by Minh Qui Seafood Co., Ltd. were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹⁴ In past reviews, Commerce has treated these companies as a single entity. See, e.g., Certain Frozen Warmwater Shrimp from Thailand: Final Results of Antidumping Duty Administrative Review; Final Determination of No Shipments; 2015-2016, 82 FR 30836 (July 3, 2017) (2015-2016 AR Final). Absent information to the contrary, we intend to continue to treat these companies as a single entity for the purpose of this administrative review.

¹⁵ Shrimp produced and exported by Chanthaburi Frozen Food Co., Ltd. (Chanthaburi Frozen) were excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). Accordingly, we are initiating this administrative review with respect to Chanthaburi Frozen only for shrimp produced in Thailand where Chanthaburi Frozen acted as either the manufacturer or exporter (but not both).

¹⁶ Shrimp produced and exported by Chanthaburi Seafoods Co., Ltd. (Chanthaburi Seafoods) were excluded from the order effective January 16, 2009. See Section 129 Determination. Accordingly, we are initiating this administrative review with respect to Chanthaburi Seafoods only for shrimp produced in Thailand where Chanthaburi Seafoods acted as either the manufacturer or exporter (but not both).

¹⁷ In past reviews, Commerce has treated these companies as a single entity. See, e.g., 2015-2016 AR Final. Absent information to the contrary, we intend to continue to treat these companies as a single entity for the purpose of this administrative review.

¹⁸ In past reviews, Commerce has treated these companies as a single entity. See, e.g., Certain Frozen Warmwater Shrimp from Thailand: Final Results and Final Partial Rescission of Antidumping Duty Administrative Review; 2006- 2007, 73 FR 50933 (August 29, 2008) (2006-2007 AR Final). Absent information to the contrary, we intend to continue to treat these companies as a single entity for the purpose of this administrative review.

¹⁹ Shrimp produced and exported by Marine Gold Products Ltd. (Marine Gold) were excluded from the order effective February 1, 2012. See Certain Frozen Warmwater Shrimp from Thailand: Final Results of Antidumping Duty Administrative Review, Partial Rescission of Review, and Revocation of the Order (in Part); 2011-2012, 78 FR 42497 (July 16, 2013). Accordingly, we are initiating this administrative review with respect to Marine Gold only for shrimp produced in Thailand where Marine Gold acted as either the manufacturer or exporter (but not both).

²⁰ In past reviews, Commerce has treated these companies as a single entity. See, e.g., 2015-2016 AR Final. Absent information to the contrary, we intend to continue to treat these companies as a single entity for the purpose of this administrative review.

²¹ Shrimp produced and exported by Phatthana Frozen Food Co., Ltd. (Phatthana Frozen) were excluded from the order effective January 16, 2009. See Certain Frozen Warm Water Shrimp from Thailand: Final Results of Antidumping Duty Changed Circumstances Review and Notice of Revocation in Part, 74 FR 52452 (October 13, 2009) (CCR Final and Partial Revocation). Accordingly, we are initiating this administrative review with respect to Phatthana Frozen only for shrimp produced in Thailand where Phatthana Frozen acted as either the manufacturer or exporter (but not both).

²² Shrimp produced and exported by Phatthana Seafood Co., Ltd. (Phatthana Seafood) were excluded from the order effective January 16, 2009. See Section 129 Determination. Accordingly, we are initiating this administrative review with respect to Phatthana Seafood only for shrimp produced in Thailand where Phatthana Seafood acted as either the manufacturer or exporter (but not both).

²³ Shrimp produced and exported by Sea Wealth Frozen Food Co., Ltd. (Sea Wealth) were excluded from the order effective January 16, 2009. See CCR Final and Partial Revocation. Accordingly, we are initiating this administrative review with respect to Sea Wealth only for shrimp produced in Thailand where Sea Wealth acted as either the manufacturer or exporter (but not both).

²⁴ In past reviews, Commerce has treated these companies as a single entity. See, e.g., 2015-2016 AR Final. Absent information to the contrary, we intend to continue to treat these companies as a single entity for the purpose of this administrative review.

²⁵ In past reviews, Commerce has treated these companies as a single entity. See, e.g., 2015-2016 AR Final. Absent information to the contrary, we intend to continue to treat these companies as a single entity for the purposes of this administrative review.

²⁶ In past reviews, Commerce has treated these companies as a single entity. See, e.g., 2006-2007 AR Final. Absent information to the contrary, we intend to continue to treat these companies as a single entity for the purpose of this administrative review.

²⁷ Shrimp produced and exported by Thai I-Mei Frozen Foods Co., Ltd. (Thai I-Mei) were excluded from the order effective January 16, 2009. See Section 129 Determination. Accordingly, we are initiating this administrative review with respect to Thai I-Mei only for shrimp produced in Thailand where Thai I-Mei acted as either the manufacturer or exporter (but not both).

²⁸ In past reviews, Commerce has treated these companies as a single entity. See, e.g., 2015-2016 AR Final. Absent information to the contrary, we intend to continue to treat these companies as a single entity for the purpose of this administrative review.

²⁹ Allied Pacific Food (Dalian) Co., Ltd., Allied Pacific (HK) Co., Ltd., Allied Pacific Aquatic Products (Zhanjiang) Co., Ltd; and Allied Pacific Aquatic Products (Zhongshan) Co., Ltd. comprise the single entity Allied Pacific. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013) (China Shrimp Exclusion). Additionally, this Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See China Shrimp Exclusion, 78 FR at 18959. Accordingly, we are initiating this review for these exporters only with respect to subject merchandise produced by entities other than the aforementioned producers.

³⁰ Shantou Red Garden Food Processing Co., Ltd. and Shantou Red Garden Foodstuff Co., Ltd. comprise the single entity Shantou Red Garden Foods. See Certain Frozen Warmwater Shrimp from the People's Republic of China: Final Results of Antidumping Duty Administrative Review and Final Determination of No Shipments; 2018-2019, 85 FR 83891 (December 23, 2020).

³¹ This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

³² This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we are initiating this review for this exporter only with respect to subject merchandise produced by another entity.

³³ Commerce previously determined that the following companies should be treated as a single entity: Alcha International Holdings Limited; Jiangsu Alcha Aluminum Group Co., Ltd.; and Baotou Alcha Aluminum Co., Ltd. See Common Alloy Aluminum Sheet from the People's Republic of China: Final Results of Antidumping Duty Administrative Review, Final Successor-in-Interest Determination, and Final Determination of No Shipments; 2018-2020, 86 FR 74066 (December 29, 2021). Therefore, we are initiating this administrative review on all three companies within the collapsed entity.

³⁴ Commerce received a request for review of Jiangsu Alcha Aluminum Co., Ltd.; however, Commerce previously determined that Jiangsu Alcha Aluminum Group Co., Ltd. is the successor-in-interest to Jiangsu Alcha Aluminum Co., Ltd. See Common Alloy Aluminum Sheet from the People's Republic of China: Final Results of Antidumping Duty Administrative Review, Final Successor-in-Interest Determination, and Final Determination of No Shipments; 2018-2020, 86 FR 74066 (December 29, 2021). Accordingly, we are initiating this administrative review on Jiangsu Alcha Aluminum Group Co., Ltd.

³⁵ This company was inadvertently omitted from the initiation notice that published on March 14, 2023 (88 FR 15642). Commerce hereby clarifies that it received a request to conduct an administrative review of this company, and, in accordance with Commerce's regulations, has initiated this administrative review.

³⁶ Commerce previously found “Jiangsu Alcha Aluminium Co., Ltd.” to be cross-owned with “Baotou Alcha Aluminium Co., Ltd.” and “Jiangsu Alcha New Energy Materials Co., Ltd.” Commerce also cumulated the benefits from subsidies received by “Alcha International Holdings Limited” with the benefits from subsidies received by “Jiangsu Alcha Aluminium Co., Ltd.” in the previous administrative review in accordance with 19 CFR 351.525(c). See Common Alloy Aluminum Sheet from the People's Republic of China: Final Results of Countervailing Duty Administrative Review; 2020, 87 FR 54462 (September 6, 2022), and accompanying Issues and Decision Memorandum (IDM) at 4.

³⁷ Commerce previously found “Henan Gongdian Thermal Co., Ltd.” to be cross-owned with “Henan Mingtai Industrial Co., Ltd.” and “Zhengzhou Mingtai Industry, Co., Ltd.” See Common Alloy Aluminum Sheet from the People's Republic of China: Preliminary Affirmative Countervailing Duty (CVD) Determination, Alignment of Final CVD Determination with Final Antidumping Duty Determination, and Preliminary CVD Determination of Critical Circumstances, 83 FR 17651 (April 23, 2018), and accompanying Preliminary Decision Memorandum at 10-11, unchanged in Countervailing Duty Investigation of Common Alloy Aluminum Sheet from the People's Republic of China: Final Affirmative Determination, 83 FR 57427 (November 15, 2018), and accompanying IDM at 5. Additionally, the Aluminum Association Common Alloy Aluminum Sheet Trade Enforcement Working Group (Aluminum Working Group) clarified that it intended to request a review for “Henan Mingtai Industrial Co., Ltd.,” not “Henan Mingtai Al. Industrial Co., Ltd.” See Memorandum, “Phone Conversation with { }{sic} Interested Parties,” dated March 16, 2023 (Name Clarification Memo) at 1; and Aluminum Working Group's Letter, “Domestic Industry's Request for Administrative Review,” dated February 28, 2023 at 3.

³⁸ Valeo North America, Inc. (Valeo), an interested party, clarified that, in addition to requesting a review for “Jiangsu Alcha Aluminium Co., Ltd.,” it intended to request a review for the three following company names: (1) “Jiangsu Alcha Aluminum Co., Ltd.”; (2) “Jiangsu Alcha Aluminium Group Co., Ltd.”; and (3) “Jiangsu Alcha Aluminum Group Co., Ltd.” See Name Clarification Memo at 1-2.

³⁹ Id.

⁴⁰ Id.

⁴¹ Mid-South Holdings LLC (Mid-South), an interested party, clarified that it intended to request a review for two separate company names, (1) “Mingtai Aluminum” and (2) “Zhengzhou Mingtai Industry Co., Ltd.” Id. at 2. See also Mid-South's Letter, “Additional Request for Administrative Review,” dated February 28, 2023.

⁴² Commerce previously found Qingdao Ge Rui Da Rubber Co., Ltd.; Cooper Tire (China) Investment Co. Ltd..; Qingdao Yiyuan Investment Co., Ltd.; and Cooper Tire Asia-Pacific (Shanghai) Trading Co., Ltd. to be cross-owned. See Truck and Bus Tires from the People's Republic of China: Preliminary Results of the Countervailing Duty Administrative Review, Rescission in Part, and Intent to Rescind in Part; 2020, 87 FR 12929 (March 8, 2022), and accompanying Preliminary Decision Memorandum at 27, unchanged in Truck and Bus tires from the People's Republic of China: Final Results of the Countervailing Duty Administrative Review; 2020, 87 FR 39063 (June 30, 2022).

⁴³ Commerce previously found Prinx Chengshan (Shandong) Tire Co., Ltd.; Chengshan Group Co., Ltd.; Shanghai Chengzhan Information and Technology Center; Prinx Chengshan (Qingdao) Industrial Research & Design Co., Ltd.; Shandong Prinx Chengshan Tire Technology Research Co., Ltd. to be cross-owned. See Truck and Bus Tires from the People's Republic of China: Preliminary Results of the Countervailing Duty Administrative Review, Rescission in Part, and Intent to Rescind in Part; 2020, 87 FR 12929 (March 8, 2022), and accompanying Preliminary Decision Memorandum at 27, unchanged in Truck and Bus tires from the People's Republic of China: Final Results of the Countervailing Duty Administrative Review; 2020, 87 FR 39063 (June 30, 2022).

⁴⁴ The companies listed below (i.e., Linyi Lingong Machinery Group Co., Ltd., Zhejiang Green Power Machinery Co., Ltd., and Shengda Fenghe Automotive Equipment Co., Ltd.) were inadvertently omitted in the notice of initiation that published in the Federal Register on February 2, 2023 (88 FR 7060).

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁴⁵ available at www.govinfo.gov/content/pkg/FR-2013-07-17/pdf/2013-17045.pdf, prior to submitting factual information in this segment. Note that Commerce has temporarily modified certain of its requirements for serving documents containing business proprietary information, until further notice.⁴⁶

⁴⁵ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁴⁶ See Temporary Rule Modifying AD/CVD Service Requirements Due to COVID-19; Extension of Effective Period, 85 FR 41363 (July 10, 2020).

Any party submitting factual information in an AD or CVD proceeding must certify to the accuracy and completeness of that information using the formats provided at the end of the Final Rule.⁴⁷ Commerce intends to reject factual submissions in any proceeding segments if the submitting party does not comply with applicable certification requirements.

⁴⁷ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.⁴⁸ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

⁴⁸ See 19 CFR 351.302.

These initiations and this notice are in accordance with section 751(a) of the Act (19 U.S.C. 1675(a)) and 19 CFR 351.221(c)(1)(i).

Dated: April 5, 2023.
James Maeder,
Deputy Assistant Secretary for Antidumping and Countervailing Duty Operations.

[FR Doc. 2023-07536 Filed 4-10-23; 8:45 am]

BILLING CODE 3510-DS-P